DEPARTMENT OF HEALTH AND HUMAN SERVICES

Chronic Fatigue Syndrome Advisory Committee

AGENCY: Office of the Secretary, HHS.

ACTION: Notice of meeting.

SUMMARY: As stipulated by the Federal Advisory Committee Act, the U.S. Department of Health and Human Services (DHHS) is hereby giving notice that the Chronic Fatigue Syndrome Advisory Committee (CFSAC) will hold a meeting. The meeting will be open to the public.

DATES: The meeting will be held on September 29, 2003, from 10 a.m. to 5 p.m.

ADDRESSES: National Institutes of Health, Building 31C, Conference Room 10, 9000 Rockville Pike; Bethesda, MD 20892.

FOR FURTHER INFORMATION CONTACT: Dr. Larry E. Fields, Acting Executive Secretary, Chronic Fatigue Syndrome Advisory Committee, U.S. Department of Health and Human Services, Hubert H. Humphrey Building, 200 Independence Avenue, SW., Room 701H, Washington, DC 20201; (202) 690-7694.

SUPPLEMENTARY INFORMATION: CFSAC was established on September 5, 2002, to replace the Chronic Fatigue Syndrome Coordinating Committee. CFSAC was established to advise, consult with, and make recommendations to the Secretary, through the Assistant Secretary for Health, on a broad range of topics including (1) the current state of knowledge and research about the epidemiology and risk factors relating to chronic fatigue syndrome, and identifying potential opportunities in these areas; (2) current and proposed diagnosis and treatment methods for chronic fatigue syndrome; and (3) development and implementation of programs to inform the public, health care professionals, and the biomedical, academic, and research community about chronic fatigue syndrome advances.

This will be the initial meeting of the Committee; the agenda for this meeting is being developed.

Public attendance at the meeting is limited to space available. Individuals must provide a photo ID for entry into the meeting. Individuals who plan to attend and need special assistance, such as sign language interpretation or other reasonable accommodations, should notify the designated contact person. Members of the public will have the opportunity to provide comments at the meeting. Preregistration is required for public comment. Any individual who wishes to participate in the public comment session should call the telephone number listed in the contact information to register. Public comment will be limited to five minutes per speaker. Any members of the public who wish to have printed material distributed to CFSAC members should submit materials to the Acting Executive Secretary, CFSAC, whose contact information is listed above prior to close of business, September 25, 2003.

This notice is being published less than 15 days in advance of the meeting due to issues pertaining to technical arrangements.

Dated: September 12, 2003.
Larry E. Fields,
Acting Executive Secretary, Chronic Fatigue Syndrome Advisory Committee.

[FR Doc. 03-23791 Filed 9-15-03; 8:45 am]

BILLING CODE 4150-28-P